DEPARTMENT OF ENERGY

Federal Energy Regulatory Commission

[Docket No. EL00-93-000, et al.]

Midland Cogeneration Venture Limited Partnership, et al.; Electric Rate and Corporate Regulation Filings

July 25, 2000.

Take notice that the following filings have been made with the Commission:

1. Midland Cogeneration Venture Limited Partnership

[Docket No. EL00-93-000]

Take notice that on July 24, 2000, Midland Cogeneration Venture Limited Partnership (MCV) filed a Petition for Declaratory Order and Request for Expedited Consideration. MCV states that the purpose of the filing is to obtain an order declaring that the Commission would not consider MCV to be a person primarily engaged in the generation or sale of electric power (other than electric power solely from cogeneration or small power production facilities) in violation of Section 3(18) of the Federal Power Act, 16 U.S.C. 791a et seq.(1994), if MCV complies with Consumers Energy Company's (Consumers) Open-Access Transmission Tariff (OATT) by purchasing Delivery Scheduling and Balancing Service, a service which transmission customers are required to take or supply under Schedule 4A of Consumers' OATT.

Comment date: August 23, 2000, in accordance with Standard Paragraph E at the end of this notice.

2. Pacific Gas and Electric Company

[Docket No. ER00-3214-000]

Take notice that on July 20, 2000, Pacific Gas and Electric Company (PG&E), tendered for filing as a change in rate schedule, a revised “Interconnection Agreement between Northern California Power Agency and Pacific Gas and Electric Company” (PG&E-NCPA IA). The PG&E-NCPA IA, dated November 26, 1991, was accepted with its appendices for filing by the Commission on May 12, 1992, and designated as PG&E Rate Schedule FERC No. 142. The changes to the PG&E-NCPA IA consist of revised sections of Appendices A and E thereto and a Letter Agreement for the Sale of Additional Short-Term Firm Transmission Service, dated June 2, 2000 (Letter Agreement). The changes to Appendices A and E include certain market-based energy rates. The Letter Agreement provides for NCPA to pay the backbone rate for Short-Term Firm Transmission Type I Service beginning April 1, 1998.

Copies of this filing were served upon NCPA, the California Independent System Operation Corporation, the California Power Exchange Corporation and the California Public Utilities Commission.

Comment date: August 10, 2000, in accordance with Standard Paragraph E at the end of this notice.

3. New York Independent System Operator, Inc.

[Docket No. ER00-3215-000]

Take notice that on July 20, 2000, the New York Independent System Operator, Inc. (NYISO), tendered for filing a Revision to Procedures Governing Auctions of Transmission Congestion Contracts and a proposed tariff change related thereto.

A copy of this filing was served upon all parties who have executed Service Agreements under the ISO OATT.

Comment date: August 10, 2000, in accordance with Standard Paragraph E at the end of this notice.

4. Mid-Atlantic Energy Development Company

[Docket No. ER00-3216-000]

Take notice that on July 20, 2000, Mid-Atlantic Energy Development Company (Mid-Atlantic), tendered for filing a Power Sales Agreement dated July 21, 2000 between Mid-Atlantic as seller and Cleveland Electric Illuminating Company, Ohio Edison Company, Pennsylvania Power Company and Toledo Edison Company (collectively, the FirstEnergy Operating Companies) as purchasing parties (the Agreement).

Mid-Atlantic states that its has acquired and is installing three new natural gas-fired combustion turbines, each of which has a generation capacity of approximately 130 MW. Mid-Atlantic states that under the Agreement, it will sell all of the capacity and associated energy from those units to the FirstEnergy Operating Companies at negotiated rates.

Mid-Atlantic is proposing to make the Agreement effective as of July 21, 2000.

Comment date: August 10, 2000, in accordance with Standard Paragraph E at the end of this notice.

5. Duquesne Light Company

[Docket No. ER00-3217-000]

Take notice that on July 20, 2000, pursuant to North American Electric Reliability Council, 91 FERC ¶ 61,122 (2000) (NERC), Duquesne Light Company tendered for filing a notice of a generic amendment to its Open Access Transmission Tariff (OATT) reflecting the North American Electric Reliability Council (NERC) revised Transmission Loading Relief (TLR) procedures accepted by the Commission in NERC.

Comment date: August 10, 2000, in accordance with Standard Paragraph E at the end of this notice.

6. Portland General Electric Company

[Docket No. ER00-3218-000]

Take notice that on July 20, 2000, Portland General Electric Company (PGE), tendered for filing under PGE's Market-Based Rate Tariff, FERC Electric Tariff, First Revised Volume No. 11 (Docket No. ER99-1263-000), an executed Service Agreement for Service at Market-Based Rates with Tractebel Energy Marketing, Inc.

Pursuant to 18 CFR Section 35.11, and the Commission's Order in Docket No. PL93-2-002 issued July 30, 1993, PGE respectfully requests that the Commission grant a waiver of the notice requirements of 18 CFR Section 35.3 to allow the Service Agreement to become effective June 27, 2000.

A copy of this filing was caused to be served upon Tractebel Energy Marketing, Inc., as noted in the filing letter.

Comment date: August 10, 2000, in accordance with Standard Paragraph E at the end of this notice.

7. EnergyUSA-TPC Corporation

[Docket No. ER00-3219-000]

Take notice that on July 20, 2000, EnergyUSA-TPC Corporation (EnergyUSA), an indirect wholly owned subsidiary of NiSource, Inc., tendered for filing its FERC Electric Rate Schedule 1 and a Statement of Policy and Code of Conduct.

EnergyUSA seeks an effective date of September 18, 2000 for the tariff sheets submitted with this filing.

EnergyUSA states that it meets all requirements to sell electric energy and capacity at market based rates. In addition, EnergyUSA states Statement of Policy and Code of Conduct meets all Commission requirements regarding transactions and relationships with its franchised public utility affiliates.

Comment date: August 10, 2000, in accordance with Standard Paragraph E at the end of this notice.

8. FirstEnergy System

[Docket No. ER00-3220-000]

Take notice that on July 20, 2000, FirstEnergy System tendered for filing a Service Agreement to provide Non-Firm Point-to-Point Transmission Service for H.Q. Energy Services (U.S.) Inc., the Transmission Customer. Services are being provided under the FirstEnergy System Open Access Transmission Tariff submitted for filing by the Federal Energy Regulatory Commission in Docket No. ER97-412-000.

The proposed effective date under this Service Agreement is July 19, 2000, for the above mentioned Service Agreement in this filing.

Comment date: August 10, 2000, in accordance with Standard Paragraph E at the end of this notice.

9. FirstEnergy System

[Docket No. ER00-3221-000]

Take notice that on July 20, 2000, FirstEnergy System filed Service Agreements to provide Firm Point-to-Point Transmission Service for H.Q. Energy Services (U.S.) Inc., the Transmission Customer. Services are being provided under the FirstEnergy System Open Access Transmission Tariff submitted for filing by the Federal Energy Regulatory Commission in Docket No. ER97-412-000.

The proposed effective date under this Service Agreement is July 19, 2000 for the above mentioned Service Agreement in this filing.

Comment date: August 10, 2000, in accordance with Standard Paragraph E at the end of this notice.

10. Illinois Power Company

[Docket No. ER00-3222-000]

Take notice that on July 20, 2000, Illinois Power Company (Illinois Power), 500 South 27th Street, Decatur, Illinois 62526, tendered for filing firm and non-firm transmission agreements under which Consumers Energy Company (d/b/a Consumers Energy Traders) will take transmission service pursuant to its open access transmission tariff. The agreements are based on the Form of Service Agreement in Illinois Power's tariff.

Illinois Power has requested an effective date of July 15, 2000.

Comment date: August 10, 2000, in accordance with Standard Paragraph E at the end of this notice.

11. Illinois Power Company

[Docket No. ER00-3223-000]

Take notice that on July 20, 2000, Illinois Power Company (Illinois Power), 500 South 27th Street, Decatur, Illinois 62526, tendered for filing firm and non-firm transmission agreements under which Amerada Hess Corporation will take transmission service pursuant to its open access transmission tariff. The agreements are based on the Form of Service Agreement in Illinois Power's tariff.

Illinois Power has requested an effective date of June 23, 2000.

Comment date: August 10, 2000, in accordance with Standard Paragraph E at the end of this notice.

12. Virginia Electric and Power Company

[Docket No. ER00-3224-000]

Take notice that on July 20, 2000, Virginia Electric and Power Company (Virginia Power or the Company), tendered for filing a Service Agreement for Long Term Firm Point-to-Point Transmission Service with Virginia Power's merchant function, The Wholesale Power Group. This Agreement will be designated as Service Agreement No. 292 under Company's FERC Electric Tariff, First Revised Volume No. 5.

The foregoing Service Agreement is tendered for filing under the Open Access Transmission Tariff to Eligible Purchasers dated July 14, 1997. Under the tendered Service Agreement, Virginia Power will provide long term firm point-to-point service to the Transmission Customer under the rates, terms and conditions of the Open Access Transmission Tariff.

Virginia Power requests an effective date of July 19, 2000, the date of filing of the Service Agreement.

Copies of the filing were served upon The Wholesale Power Group, the Virginia State Corporation Commission, and the North Carolina Utilities Commission.

Comment date: August 10, 2000, in accordance with Standard Paragraph E at the end of this notice.

13. Virginia Electric and Power Company

[Docket No. ER00-3225-000]

Take notice that on July 20, 2000, Virginia Electric and Power Company (Virginia Power), tendered for filing the Service Agreement between Virginia Electric and Power Company and Roswell Energy, Inc. Under the Service Agreement, Virginia Power will provide services to Roswell Energy, Inc. under the terms of the Company's Revised Market-Based Rate Tariff designated as FERC Electric Tariff (Second Revised Volume No. 4), which was accepted by order of the Commission dated August 13, 1998 in Docket No. ER98-3771-000.

Virginia Power requests an effective date of July 19, 2000, the date of filing of the Service Agreement.

Copies of the filing were served upon Roswell Energy, Inc., the Virginia State Corporation Commission and the North Carolina Utilities Commission.

Comment date: August 10, 2000, in accordance with Standard Paragraph E at the end of this notice.

14. Virginia Electric and Power Company

[Docket No. ER00-3226-000]

Take notice that on July 20, 2000, Virginia Electric and Power Company (Virginia Power), tendered for filing a Letter of Termination of the Service Agreement between Virginia Electric and Power Company and Duke Energy Trading and Marketing, L.L.C. (formerly Louis Dreyfus Electric Power Inc.) dated January 1, 1995 and approved by the FERC in a letter order on February 14, 1995 in Docket No. ER95-417-000. Virginia Power requests that the Letter of Termination be designated as First Revised Service Agreement No. 8 under FERC Electric Tariff, Original Volume No. 4.

Virginia Power also respectfully requests an effective date of the termination of the Service Agreement of September 20, 2000, which is sixty (60) days from the date of filing of the Letter of Termination.

Copies of the filing were served upon Duke Energy Trading and Marketing, L.L.C., the Virginia State Corporation Commission and the North Carolina Utilities Commission.

Comment date: August 10, 2000, in accordance with Standard Paragraph E at the end of this notice.

15. MidAmerican Energy Company

[Docket No. ER00-3227-000]

Take notice that on July 20, 2000, MidAmerican Energy Company (MidAmerican), 666 Grand Avenue, Des Moines, Iowa 50309, tendered for filing with the Commission a Firm Transmission Service Agreement with Cinergy Services, Inc. (Cinergy), dated June 30, 2000, entered into pursuant to MidAmerican's Open Access Transmission Tariff.

MidAmerican requests an effective date of June 30, 2000 for the Agreement with Cinergy, and accordingly seeks a waiver of the Commission's notice requirement. MidAmerican has served a copy of the filing on Cinergy, the Iowa Utilities Board, the Illinois Commerce Commission and the South Dakota Public Utilities Commission.

Comment date: August 10, 2000, in accordance with Standard Paragraph E at the end of this notice.

16. American Energy Company

[Docket No. ER00-3228-000]

Take notice that on July 20, 2000, MidAmerican Energy Company (MidAmerican), 666 Grand Avenue, Des Moines, Iowa 50309, tendered for filing with the Commission a Non-Firm Transmission Service Agreement with IES Utilities, Inc. (IES), dated July 10, 2000, entered into pursuant to MidAmerican's Open Access Transmission Tariff.

MidAmerican requests an effective date of July 10, 2000, for the Agreement with IES, and accordingly seeks a waiver of the Commission's notice requirement.

MidAmerican has served a copy of the filing on IES, the Iowa Utilities Board, the Illinois Commerce Commission and the South Dakota Public Utilities Commission.

Comment date: August 10, 2000, in accordance with Standard Paragraph E at the end of this notice.

17. Midwest Generation, LLC

[Docket No. ER00-3230-000]

Take notice that on July 20, 2000, Midwest Generation, LLC. (Midwest), tendered for filing an amendment to Service Agreement No. 1 under Midwest's FERC Electric Tariff, Original Volume No. 1 (the Collins Generating Station Power Purchase Agreement between Commonwealth Edison Company and Midwest).

Comment date: August 10, 2000, in accordance with Standard Paragraph E at the end of this notice.

18. MidAmerican Energy Company

[Docket No. ER00-3231-000]

Take notice that on July 20, 2000, MidAmerican Energy Company (MidAmerican), tendered for filing with the Commission a Notice of Cancellation pursuant to Section 35.15 of the Commission's regulations. MidAmerican requests that the following rate schedule be canceled effective as of 11:59 p.m. on May 31, 1998:

1. Full Requirements Power Agreement dated July 6, 1988, between Iowa Public Service Company (a predecessor company of MidAmerican) and City of Estherville, Iowa. This Agreement has been designated as MidAmerican Service Agreement No. 4 under FERC Electric Tariff No. 7.

MidAmerican requests a waiver of Section 35.15 to the extent that this Notice of Cancellation has not been filed within the time required by such section. MidAmerican inadvertently failed to submit the Notice of Cancellation upon expiration of the agreement under its own terms.

MidAmerican has mailed a copy of this filing to City of Estherville, Iowa, the Iowa Utilities Board, the Illinois Commerce Commission and the South Dakota Public Utilities commission.

Comment date: August 10, 2000, in accordance with Standard Paragraph E at the end of this notice.

19. Southern Company Services, Inc.

[Docket No. ER00-3232-000]

Take notice that on July 20, 2000, Southern Company Services, Inc. (SCS), on behalf of Alabama Power Company, Georgia Power Company, Gulf Power Company, Mississippi Power Company, and Savannah Electric and Power Company (Southern Companies), tendered for filing a Notice of Cancellation of the following rate schedules:

1. Service Schedule B (Short Term Power) and Service Schedule C (Economy Interchange) to the Interchange Service Contract dated March 18, 1996 by and between Tampa Electric Company, Southern Companies, and SCS (FERC Rate Schedule—Southern Operating Cos. No. 93).

2. Service Schedule B (Short Term Power) and Service Schedule C (Economy Interchange) to the Interchange Service Contract dated February 9, 1996 by and between Western Gas Resources Power Marketing, Inc., Southern Companies, and SCS (FERC Rate Schedule—Southern Operating Cos. No. 88).

3. Service Schedule B (Short Term Power) and Service Schedule C (Economy Interchange) to the Interchange Contract dated June 30, 1991 by and between Cajun Electric Power Cooperative, Inc., Southern Companies, and SCS (FERC Rate Schedule—Southern Operating Cos. No. 76).

4. Service Schedule B (Short Term Power) and Service Schedule C (Economy Interchange) to the Interchange Contract dated December 18, 1991 by and between Duke Power Company, Southern Companies, and SCS (FERC Rate Schedule—Southern Operating Cos. No. 77).

5. Service Schedule B (Short Term Power) and Service Schedule C (Economy Interchange) to the Interchange Service Contract dated November 3, 1995 by and between Koch Power Services Inc., Southern Companies, and SCS (FERC Rate Schedule—Southern Operating Cos. No. 82).

6. Service Schedule C (Economy Interchange) to the Interchange Contract dated December 22, 1988 by and between Florida Power Corporation, Southern Companies, and SCS (FERC Rate Schedule—Southern Operating Cos. No. 70).

7. Service Schedule B (Short Term Power) and Service Schedule C (Economy Interchange) to the Interchange Service Contract dated February 9, 1996 by and between Intercoast Power Marketing Company, Southern Companies, and SCS (FERC Rate Schedule—Southern Operating Cos. No. 90).

These service schedules set forth the general terms and conditions governing certain transactions for Short Term Power and Economy Interchange service between Southern Companies and the above referenced parties, including the sale of such services by Southern Companies. Each of these service schedules has been terminated by the mutual agreement of the respective parties to each interchange contract listed above because such parties no longer desire to conduct transactions under such service schedules.

Comment date: August 10, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-19226 Filed 7-28-00; 8:45 am]

BILLING CODE 6717-01-P